ENVIRONMENTAL PROTECTION AGENCY

[OPP-2005-0052; FRL-7703-3]

Bacillus Thuringiensis VIP3A Insect Control Protein and the Genetic Material Necessary for its Production; Notice of Filing a Pesticide Petition to Amend an Exemption from the Requirement of a Tolerance for a Certain Pesticide Chemical in or on Food; Correction

AGENCY: Environmental Protection Agency (EPA).

ACTION: Notice.

SUMMARY: This notice announces a correction to the Notice of Filing of a pesticide petition proposing an amendment to an existing exemption from the requirement of a tolerance for residues of a certain pesticide chemical in or on various food commodities.

DATES: Comments, identified by docket identification (ID) number OPP-2005-0052, must be received on or before April 15, 2005.

ADDRESSES: Comments may be submitted electronically, by mail, or through hand delivery/courier. Follow the detailed instructions as provided in Unit I.C. of the SUPPLEMENTARY INFORMATION of the September 15, 2004, Federal Register Notice.

FOR FURTHER INFORMATION CONTACT: Sharlene Matten, Biopesticides and Pollution Prevention Division (7511C), Office of Pesticide Programs, Environmental Protection Agency, 1200 Pennsylvania Ave., NW., Washington, DC 20460-0001; telephone number: (703) 605-0514; e-mail address: matten.sharlene@epa.gov.

SUPPLEMENTARY INFORMATION:

I. General Information

A. Does this Action Apply to Me?

The Agency included in the September 15, 2004, Notice of Filing a list of those who may be potentially affected by the action. If you have any questions regarding the applicability of this action to a particular entity, consult the person listed under FOR FURTHER INFORMATION CONTACT.

B. How Can I Get Copies of this Document and Other Related Information?

In addition to using EDOCKET (http://www.epa.gov/edocket/), you may access this Federal Register document electronically through the EPA Internet under the “Federal Register” listings at http://www.epa.gov/fedrgstr/.

II. Background

On July 26, 2004, Syngenta Seeds, 3054 Cornwallis Road, Research Triangle Park, NC 27709-2257 submitted a petition (PP 3G6547) to EPA under the Federal Food, Drug, and Cosmetic Act (FFDCA), as amended by the Food Quality Protection Act of 1996 (FQPA), requesting that the temporary tolerance exemption for Bacillus thuringiensis VIP3A protein and the genetic material necessary for its production in cotton found at 40 CFR 180.1247 be amended to include all VIP3A events. As it turns out, however, this particular request was unnecessary as the temporary tolerance exemption found at 40 CFR 180.1247 already includes all VIP3A events. In a subsequent letter dated July 29, 2004, Syngenta Seeds also petitioned the Agency to amend the temporary tolerance exemption found at 40 CFR 180.1247 by extending it from May 1, 2005 to May 1, 2006.

On September 15, 2004, EPA published a Notice in the Federal Register (69 FR 55605, FRL-7675-1) announcing the filing of the Syngenta Seeds petition. This Notice of Filing, however, was incorrect in two respects. First, it reiterated in summary fashion Syngenta Seeds request that the temporary tolerance exemption found at 40 CFR 180.1247 be amended to include all VIP3A events. As noted above, this was unnecessary since that temporary tolerance exemption already includes all VIP3A events. Second, the Notice failed to include Syngenta Seeds' petition to extend the approved time frame for the temporary exemption.

III. What Does this Correction Do?

The purpose of this document, therefore, is to clarify that pesticide petition 3G6547 from Syngenta Seeds, as summarized and presented in the Agency's September 15, 2004, Notice of Filing, is solely a proposal to amend the temporary tolerance exemption found at 40 CFR 180.1247 by extending it from May 1, 2005 to May 1, 2006. To the extent there is any language in that Notice of Filing discussing or alluding to Syngenta Seeds' request to make that temporary tolerance exemption non-event specific, that language is to be disregarded. All the other information contained in that September 15, 2004, Notice of Filing, however, is intended to support Syngenta Seeds' request to extend the time frame of the subject temporary tolerance exemption.

As noted elsewhere in this document, EPA is providing an additional 30 days for parties to comment on Syngenta Seeds' petition as corrected via this document. Any comments received in response to this document or the original Notice of Filing dated September 15, 2004, will be addressed in any Final Rule issued by the Agency concerning this matter.

List of Subjects

Environmental protection, Agricultural commodities, Feed additives, Food additives, Pesticides and pests, Reporting and recordkeeping requirements.

Dated: March 7, 2005.
Janet L. Andersen,
Director, Biopesticides and Pollution Prevention Division, Office of Pesticide Programs.

[FR Doc. 05-5212 Filed 3-15-05; 8:45 am]

BILLING CODE 6560-50-S